DEPARTMENT OF LABOR

Employment and Training Administration

[TA-W-39,329; TA-W-39,329A]

Dystar L.P., Mt. Holly, North Carolina; DyStar L.P., Headquarters Office, Charlotte, North Carolina; Amended Certification Regarding Eligibility To Apply for Worker Adjustment Assistance

In accordance with section 223 of the Trade Act of 1974 (19 U.S.C. 2273) the Department of Labor issued a Notice of Certification Regarding Eligibility to Apply for Worker Adjustment Assistance on December 7, 2001, applicable to workers of DyStar L.P., Mt. Holly, North Carolina. The notice was published in the Federal Register on December 26, 2001 (66 FR 66426).

At the request of the company, the Department reviewed the certification for workers of the subject firm. The company reports that worker separations occurred at the Headquarters Office, Charlotte, North Carolina location of DyStar L.P. The Charlotte, North Carolina workers provide administrative support function services for the subject firm's production facilities including Mt. Holly, North Carolina.

Based on these findings, the Department is amending this certification to include workers of DyStar L.P., Headquarters Office, Charlotte, North Carolina.

The intent of the Department's certification is to include all workers of DyStar L.P. who were adversely affected by increased imports.

The amended notice applicable to TA-W-39,329 is hereby issued as follows:

All workers of DyStar L.P., Mt. Holly, North Carolina (TA-W-39,329) and DyStar L.P. Headquarters Office, Charlotte, North Carolina (TA-W-39,329A) who became totally or partially separated from employment on or after May 15, 2000, through December 7, 2003, are eligible to apply for adjustment assistance under Section 223 of the Trade Act of 1974.”

Signed at Washington, DC, this 15th day of January, 2002.
Linda G. Poole,
Certifying Officer, Division of Trade Adjustment Assistance.

[FR Doc. 02-2688 Filed 2-4-02; 8:45 am]

BILLING CODE 4510-30-M